DEPARTMENT OF THE INTERIOR

Bureau of Indian Affairs

Renewal of Agency Information Collection for Probate of Indian Estates

AGENCY: Bureau of Indian Affairs, Interior.

ACTION: Notice of request for comments.

SUMMARY: The Bureau of Indian Affairs (BIA) is proposing to submit the information collection titled “Probate of Indian Estates, Except for Members of the Osage Nation and the Five Civilized Tribes, 25 CFR 15” to the Office of Management and Budget (OMB) for renewal pursuant to the Paperwork Reduction Act. The information collection is currently authorized by OMB Control Number 1076-0169, which expires November 30, 2011. The information collection addresses information that individuals and tribes provide to allow administration of the trust estates of Indian individuals in accordance with the American Indian Probate Reform Act of 2004.

DATES: Interested persons are invited to submit comments on or before September 19, 2011.

ADDRESSES: You may submit comments on the information collection to Charlene Toledo, Bureau of Indian Affairs, Director, Special Projects, BIA Division of Probate Services, 2600 N Central Ave., STE MS102, Phoenix, AZ 85004; e-mail: Charlene.Toldeo@bia.gov.

FOR FURTHER INFORMATION CONTACT: You may request further information or obtain copies of the information collection request submission from Charlene Toledo, Bureau of Indian Affairs, Director, Special Projects. Telephone (505) 563-3371.

SUPPLEMENTARY INFORMATION:

I. Abstract

The Secretary of the Interior probates those assets held by individuals in trust or restricted status, in accordance with the American Indian Probate Reform Act of 2004 (AIPRA) amendments to the Indian Land Consolidation Act, 25 U.S.C. 2201 et seq. In order to compile the probate file, the Bureau of Indian Affairs (BIA) must obtain information regarding the deceased from individuals and the tribe. This renewal does not make any adjustments to the estimated burden hours or otherwise change the approved information collection.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires November 30, 2011. Response to the information collection is required to obtain a benefit.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0169.

Title: Probate of Indian Estates, Except for Members of the Osage Nation and the Five Civilized Tribes, 25 CFR 15.

Brief Description of Collection: This part contains the procedures that the Secretary of the Interior follows to initiate the probate of the trust estate of a deceased person for whom the Secretary holds an interest as trust or restricted property. The Secretary must perform the information collection requests in this part to obtain the information necessary to compile an accurate and complete probate file. This file will be forwarded to the Office of Hearings and Appeals (OHA) for disposition. Responses to these information collection requests are required to obtain benefits (e.g., payment of a devise or claim from a probated estate) in accordance with the Secretary's sole statutory authority to probate estates (see 25 U.S.C. 372).

Type of Review: Extension without change of a currently approved collection.

Respondents: Indians, businesses, and tribal authorities.

Number of Respondents: 64,915.

Frequency of Collection: One per respondent each year with the exception of tribes that may be required to provide enrollment information on an average of approximately 10 times/year.

Description of Respondents: Indians, businesses, and tribal authorities.

Estimated Hours per Response: Ranges from 0.5 hour to 45.5 hour (see table below).

Estimated Total Annual Responses: 76,655.

Estimated Total Annual Burden Hours: 1,037,433.

New CFR section | Description of info collection requirement | Number of responses per yr | Hours per response | Total burden hours
15.9 | File affidavit to self-prove will, codicil, or revocation | 1,000 | 0.5 | 500
15.9 | File supporting affidavit to self-prove will, codicil, or revocation | 2,000 | 0.5 | 1,000
15.104 | Reporting req.-death certificate | 5,850 | 5 | 29,250
15.301 | Reporting funeral expenses | 5,850 | 2 | 11,700
15.105 | Provide probate documents | 21,235 | 45.5 | 966,193
15.302 | Provide info on creditor claim (6 per probate) | 35,100 | 0.5 | 17,550
15.203 | Provide tribal information for probate file | 5,620 | 2 | 11,240
Total |  | 76,655 |  | 1,037,433

Dated: July 15, 2011.
Alvin Foster
Acting Chief Information Officer—Indian Affairs.

[FR Doc. 2011-18431 Filed 7-20-11; 8:45 am]

BILLING CODE 4310-4J-P